DEPARTMENT OF THE INTERIOR

Bureau of Reclamation

DEPARTMENT OF ENERGY

Federal Energy Regulatory Commission

Battle Creek Salmon and Steelhead Restoration Project, Tehama and Shasta Counties, CA

AGENCIES: Bureau of Reclamation, Interior; Federal Energy Regulatory Commission, DOE.

ACTION: Notice of availability of the Final Environmental Impact Statement/Environmental Impact Report.

SUMMARY: Pursuant to section 102(2)(c) of the National Environmental Policy Act of 1969 (NEPA) and Public Resources Code, sections 21000-21177 of the California Environmental Quality Act (CEQA), the Bureau of Reclamation (Reclamation), the lead Federal agency; the Federal Energy Regulatory Commission (FERC), a cooperating Federal agency; and the California State Water Resources Control Board (State Water Board), the lead State agency; have prepared a joint Final Environmental Impact Statement/Environmental Impact Report (Final EIS/EIR) for the Battle Creek Salmon and Steelhead Restoration Project (Restoration Project). The Restoration Project proposed action considered by the lead agencies is the five-dam removal alternative that includes the decommissioning and removal of five small hydropower diversion dams, construction of new fish screens at the intakes and fish ladders at three other dams, and the modification of several hydropower facilities to ensure continued hydropower operations. This action will require a FERC license amendment of the Battle Creek Hydroelectric Project, owned and operated by Pacific Gas and Electric Company (PG&E).

DATES: No decision will be made on the proposed action until 30 days after the release of the Final EIS/EIR. After the 30-day waiting period, Reclamation and the State Water Board will complete their respective Record of Decision (ROD) and CEQA Findings. The ROD and CEQA Findings will identify the recommended action to be implemented including any measures found necessary to avoid, reduce or mitigate any significant adverse project effects to less than significant. FERC will then make its own independent decision regarding the proposed Battle Creek Hydroelectric Project license amendment and any measures it may find necessary to avoid, reduce or mitigate any significant adverse project effects.

ADDRESSES: Requests for a compact disk or a bound copy of the Final EIS/EIR should be addressed to Ms. Rosemary Stefani, Bureau of Reclamation, 2800 Cottage Way, Sacramento, CA 95825, telephone: (916) 978-5309, TDD (916) 978-5608, or e-mail: rstefani@mp.usbr.gov. The final EIS/EIR is available online at http://www.usbr.gov/mp/battlecreek/documents.html.

FOR FURTHER INFORMATION CONTACT: Ms. Mary Marshall, Bureau of Reclamation, 2800 Cottage Way, Sacramento, CA 95825, telephone: (916) 978-5248, TDD (916) 978-5608, e-mail: mmarshall@mp.usbr.gov; or Mr. Jim Canaday, California State Water Resources Control Board, 1001 I Street, Sacramento, CA 95814, telephone: (916) 341-5308, e-mail: jcanaday@waterboards.ca.gov.

SUPPLEMENTARY INFORMATION: The proposed Restoration Project is to restore approximately 48 miles of salmonid habitat in Battle Creek and its tributaries and to facilitate the safe passage for, and the growth and recovery of, naturally-produced anadromous fish populations, including three federally-listed runs: the Central Valley spring-run chinook salmon, the Central Valley steelhead trout, and the Sacramento River winter-run chinook salmon. The Restoration Project's proposed action (five-dam removal alternative) stems from the 1999 Memorandum of Understanding (MOU) to pursue a restoration project for Battle Creek that modifies both Battle Creek Hydroelectric Project facilities and water management operations, while at the same time minimizing loss of renewable energy produced. The MOU is signed by Reclamation, the U.S. Fish and Wildlife Service, National Marine Fisheries Service, the California Department of Fish and Game, and PG&E.

The Restoration Project Final EIS/EIR discusses the project purpose and need, project description, project background, and related projects. The Final EIS/EIR evaluates a “No Action” alternative and several action alternatives, which consist of various combinations of dam decommissioning and removals, fish screen/fish ladder improvements, and increased in-stream flows, and also describes the affected environment and environmental consequences of the Restoration Project alternatives. The proposed action (five-dam removal alternative) combines the decommissioning and removal of five small hydropower diversion dams and construction of new fish screens/ladders on another three dams, with modification of several hydropower facilities to ensure continued hydropower operations. The Final EIS/EIR addresses the impacts of project construction and operation on fisheries; botanical, wetland and wildlife resources; hydrology; water quality; groundwater; land use; geology and soils; aesthetics and visual resources; transportation; noise; air quality; public health and safety; public services and utilities; recreation; cultural resources; power generation and economics; socioeconomics; environmental justice; and Indian trust assets.

The Notice of Availability of the original joint Draft Environmental Impact Statement/Environmental Impact Report (Draft EIS/EIR), notice of public workshop, and notice of public hearing was published in the Federal Register on July 18, 2003. Two public information workshops and a public hearing were held on July 23 and August 12, and August 27, 2003, respectively; all meetings occurred in Manton, CA. A Draft Supplemental EIS/Revised EIR (Draft SEIS/REIR) was released on March 1, 2005 for a 60-day public review and comment period. Responses to all comments received from interested organizations and individuals on the Draft EIS/EIR and the Draft SEIS/REIR during the public review periods and at the public hearing are addressed in the Final EIS/EIR.

Copies of the Final EIS/EIR are available at the following locations:

• Tehama County Library, 645 Madison, Red Bluff, CA 96080, (530) 527-0604

• Shasta County Library, 1855 Shasta Street, Redding, CA 96001, (530) 225-5769

• Susanville Library, Lassen County, 1618 Main Street, Susanville, CA 96130, (530) 251-8127

• Bureau of Reclamation, Red Bluff Field Office, 22500 Altube Avenue, Red Bluff, CA 96080, (530) 529-3890

• Bureau of Reclamation, Office of Public Affairs, 2800 Cottage Way, Sacramento, CA 95825-1898, (916) 978-5100

• Bureau of Reclamation, Denver Office Library, Building 67, Room 167, Denver Federal Center, 6th and Kipling, Denver, CO 80225, (303) 445-2072

• Natural Resources Library, U.S. Department of the Interior, 1849 C Street NW., Main Interior Building, Washington, DC 20240-0001

• California State Water Resources Control Board, Division of Water Rights, 1001 I Street, 14th Floor, Sacramento, CA 95814, (916) 341-5300

Dated: May 19, 2005.
Kirk C. Rodgers,
Regional Director, Mid-Pacific Region, Bureau of Reclamation.
Dated: May 16, 2005.
Joseph D. Morgan,
Director, Division of Hydropower Administration and Compliance, Federal Energy Regulatory Commission.

[FR Doc. 05-15013 Filed 7-28-05; 8:45 am]

BILLING CODE 4310-MN-P